DEPARTMENT OF EDUCATION

Applications for New Awards; Expanding Opportunity Through Quality Charter Schools Program (CSP)—Grants to State Entities; Correction

Catalog of Federal Domestic Assistance (CFDA) Number: 84.282A.

AGENCY: Office of Innovation and Improvement, Department of Education.

ACTION: Notice; correction.

SUMMARY: On April 25, 2017, we published in the Federal Register (82 FR 19030) a notice of correction for a notice inviting applications for new awards for fiscal year (FY) 2017 for the CSP Grants to State Entities program. This notice corrects the CFDA number in the notice of correction.

DATES:

Deadline for Transmittal of Applications: May 18, 2017.

Deadline for Intergovernmental Review: July 17, 2017.

FOR FURTHER INFORMATION CONTACT: Kathryn Meeley, U.S. Department of Education, 400 Maryland Avenue SW., Room 4W257, Washington, DC 20202-5970. Telephone: (202) 453-6818, or by email: kathryn.meeley@ed.gov.

If you use a telecommunications device for the deaf (TDD) or a text telephone (TTY), call the Federal Relay Service, toll free, at 1-800-877-8339.

SUPPLEMENTARY INFORMATION: On April 25, 2017, we published in the Federal Register (82 FR 19030) a notice of correction for a notice inviting applications for new awards for FY 2017 for the CSP Grants to State Entities program. This notice corrects the CFDA number in the notice of correction.

All other requirements and conditions stated in the notice inviting applications, as amended by the notice of correction, remain the same.

Correction

In FR Doc. No. 2017-08362, in the Federal Register of April 25, 2017 (82 FR 19030), on page 19030, in the left column, under the heading “Action”, after the phrase “Catalog of Federal Domestic Assistance (CFDA) Number:”, we correct the CFDA number to read “84.282A”.

Program Authority: Title IV, Part C of the Elementary and Secondary Education Act of 1965, as amended by the Every Student Succeeds Act (20 U.S.C. 7221-7221j).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: April 26, 2017.
Margo Anderson,
Acting Deputy Assistant Secretary, Office of Innovation and Improvement.

[FR Doc. 2017-08776 Filed 4-28-17; 8:45 am]

BILLING CODE 4000-01-P